DEPARTMENT OF STATE

[Public Notice 4602]

Request for Proposals: Program for Research and Training on Eastern Europe and the Independent States of the Former Soviet Union (Title VIII)

SUMMARY: The Department of State invites organizations with substantial experience in conducting research and training to serve as intermediaries administering nationwide competitive programs for individuals and institutions concerning research and training on the countries of Southeast Europe and Eurasia. U.S.-based public and private non-profit organizations and educational institutions may submit proposals that sustain and support American expertise on the countries of Eurasia and Southeast Europe. The grants will be awarded through an open competition among applicant organizations. The purpose of this request for proposals is to inform potential applicant organizations of programmatic, procedural and funding information for submission of proposals for awards in fiscal year 2004, under a program administered by the Department of State.

Important Note: This Request for Proposals contains new instructions in the “Shipment and Deadline for Proposals,” “Eligible Countries,” and “New OMB Requirement” sections. Please pay special attention to procedural changes as outlined.

Interested applicants should read the complete Federal Register announcement before addressing inquiries to the Title VIII Program Office or submitting a proposal. Once the proposal submission deadline has passed, Title VIII Program staff may not discuss this competition with applicants until after the proposal review process has been completed.

This notice contains three parts. Part I addresses Shipment and Deadline for Proposals. Part II consists of a Statement of Purpose and Program Priorities. Part III provides Funding Information for the program.

Authority: Grantmaking authority for the Program for Research and Training on Eastern Europe and the Independent States of the Former Soviet Union (Title VIII) is contained in the Soviet-Eastern European Research and Training Act of 1983 (22 U.S.C. 4501-4508, as amended) and is funded through the FREEDOM Support Act (FSA) and Support for East European Democracy (SEED) Act. The purpose of the program is to build and sustain U.S. expertise on the study of Eastern Europe and Eurasia. The Department of State brings this expertise to the service of the U.S. Government.

Part I

Shipping and Deadline for Proposals: In light of heightened security measures, proposals may not be sent by regular U.S. Mail, and must be sent via a nationally recognized overnight delivery service (i.e., DHL, Federal Express, UPS, Airborne Express, or USPS Express Mail, etc.) or hand-delivered.

Proposals sent by USPS Express Mail or overnight delivery service must have a postmark or invoice dated by Friday, April 2, 2004, and must be received within seven (7) days after the deadline. Hand-delivered proposals must be submitted no later than 4 p.m. on April 2, 2004. Faxed documents will not be accepted at any time. Late applications will not be considered. It is the applicant's responsibility to ensure that proposals are delivered on time.

Address proposals to: Susie Baker, Title VIII Program Officer, U.S. Department of State, INR/RES, Room 2251, 2201 C Street, NW., Washington, DC 20520-6510.

Applications Delivered by Hand: Hand-delivered proposals will be accepted between 9 a.m. and 4 p.m. est daily, except Saturdays, Sundays and Federal holidays. Proposals must be brought to the State Department's 21st Street entrance, just north of the intersection with C Street, NW. From the 21st Street lobby telephone, contact Maria Seda-Gaztambide at (202) 736-4572 or Susie Baker at (202) 647-0243 for pick up.

Part II

Program Information: In the Soviet-Eastern European Research and Training Act of 1983 (Title VIII), the Congress declared that independently verified factual knowledge about the countries of that area is “of utmost importance for the national security of the United States, for the furtherance of our national interests in the conduct of foreign relations, and for the prudent management of our domestic affairs.” Congress also declared that the development and maintenance of such knowledge and expertise “depends upon the national capability for advanced research by highly trained and experienced specialists, available for service in and out of Government.” The Title VIII Program provides financial support for advanced research, graduate and language training and other related functions on the countries of the region. By strengthening and sustaining in the United States a cadre of experts on Eastern Europe and Eurasia, the program contributes to the overall objectives of the FREEDOM Support and SEED Acts.

The full purpose of the Act and the eligibility requirements are set forth in Pub. L. 98-164, 97 Stat. 1047-50, as amended. Research on the following countries is eligible for funding under this request for proposals, Albania, Armenia, Azerbaijan, Belarus, Bosnia and Herzegovina, Bulgaria, Croatia, Former Yugoslav Republic of Macedonia, Georgia, Kazakhstan, Kyrgyzstan, Moldova, Romania, Russia, Serbia (including Kosovo and Montenegro), Tajikistan, Turkmenistan, Ukraine and Uzbekistan.

The Act established an Advisory Committee to recommend grant policies and recipients. The Deputy Secretary of State, after consultation with the Advisory Committee, approves policies and makes the final determination on awards.

Applications for funding under the Title VIII Program are invited from U.S. organizations with institutional capacity and experience in conducting competitive programs, national in scope, on Southeast Europe and Eurasia and related fields. Programs of this nature are those that make awards based upon an open, merit-based competition, incorporating peer group review mechanisms. Individual recipients of these funds—those to whom the applicant organizations or institutions propose to make awards—must be at the graduate or post-doctoral level, and must have demonstrated a likely career commitment to the study of Eastern Europe and/or Eurasia.

Proposals should outline programs that would contribute to the development of a stable, long-term, national program of unclassified, advanced research and training on the countries of Southeast Europe and/or Eurasia.

Applications proposing innovative, yet realistic, approaches to research and training programs, techniques and methods, and more productive interaction among U.S. Government agencies, universities and non-government organizations (NGOs) are strongly encouraged.

Applicants should consider the following guidelines when developing proposals for funding under the Title VIII Program. Programs should be national in scope, and may:

(1) Award contracts or grants to U.S. institutions of higher education or not-for-profit corporations in support of post-doctoral or equivalent-level research projects, to be cost-shared with partner institutions;

(2) Offer graduate, post-doctoral and teaching fellowships for advanced training on the countries of Southeast Europe and Eurasia, and in related studies, including training in the languages of the region, to be cost-shared with partner institutions;

(3) Provide fellowships and other support for American specialists enabling them to conduct advanced research on the countries of Southeast Europe and Eurasia, and in related studies;

(4) Facilitate research collaboration among U.S. scholars and Government and private specialists on Southeast Europe and Eurasia studies;

(5) Provide advanced training and research on a reciprocal basis in the countries of Southeast Europe and Eurasia by facilitating access for American specialists to research facilities and resources in those countries;

(6) Facilitate the dissemination of research findings, methods and data among U.S. Government agencies and the public; and

(7) Strengthen the national capability for advanced research or training on the countries of Southeast Europe and Eurasia and/or bring Title VIII scholarship to the service of the U.S. Government in ways not specified above.

Note: The Advisory Committee will not consider applications from individuals to further their own training or research, or from institutions or organizations whose proposals are not for national competitive award programs.

In addition to the above guidelines, support for specific activities will be guided by the following policies and priorities:

• Support for Transitions and U.S. Assistance Goals: The Advisory Committee strongly encourages support for research activities that, while building expertise among U.S. specialists on the region, also: (1) Promote fundamental goals of U.S. assistance programs such as helping establish market economies and promoting democratic governance and civil societies, and (2) provide knowledge to both U.S. and foreign audiences related to current U.S. policy interests in the region, broadly defined. This includes, but is not limited to, such topics as resolution of ethnic, religious, and other conflict; terrorism; transition economics; access to information; women's issues; human rights; and citizen participation in politics and civil society. For overseas research, applicants are asked to propose creative means through which individual grant recipients' work may complement assistance activities in the region. Applicants are strongly encouraged to propose programs where grants for overseas work must include a service component such as lecturing at a university or participating in workshops with host government and parliamentary officials, nongovernmental organizations, and other relevant audiences on issues related to economic and political transitions.

• Scope: As mentioned above, the Title VIII Program provides knowledge to both U.S. and foreign audiences related to current U.S. policy interests in the region, broadly defined. Historical or cultural research that promotes understanding of current events in the region is acceptable if an explicit connection can be made to contemporary political and/or economic transitions. Research on such topics as musicology and mathematics are not appropriate for funding under this program.

• Regional Focus: The Advisory Committee gives priority to innovative programs that focus on gaps in knowledge on Central Asia, the Caucasus, and the Balkans, especially the former Yugoslavia. Since September 2001, the “greater Central Asia” region has become critical in the global war on terrorism. Also eligible are proposals that incorporate a focus on a “greater Central Asia,” and include specifically the countries of Kazakhstan, Kyrgyzstan, Tajikistan, Turkmenistan and/or Uzbekistan, relative to their cross-border historical, ethnic, linguistic, political, economic and cultural ties with such countries as Iraq, Iran, Afghanistan, Pakistan and Turkey.

• Balanced National Program: In making its recommendations, the Advisory Committee will seek to encourage a coherent, long-term and stable effort directed toward developing and maintaining a national capability on the countries of Southeast Europe and Eurasia. Program proposals can be for the conduct of any of the functions enumerated, but in making its recommendations, the Committee will concern itself particularly with the development of a balanced national effort that will ensure attention to all eligible countries.

• Promoting Federal Service for Title VIII Grant Recipients: Although the Title VIII Program does not require a federal service commitment for individuals receiving funding, the Advisory Committee urges grantees to encourage individuals receiving Title VIII funding to pursue U.S. Government career opportunities, internships, or short-term sabbaticals after completing their awards. Grant recipient organizations are encouraged to: (1) Identify individuals for funding who have an interest in pursuing careers in the U.S. Government, and (2) provide opportunities for individuals in disciplines with Eurasian and/or Southeast Europe studies concentrations to serve on a temporary basis as a policy or other expert in U.S. Embassies, U.S. Government agencies and/or with NGOs in the region.

• Publications: Funds awarded in this competition should not be used to subsidize journals, newsletters and other periodical publications except in special circumstances. In such cases, funding requests should be directed to one or more of the organizations that may receive program funds for such purposes. Proposed publications would be competed nationally and evaluated by peer-review selection panels against research, fellowship or other proposals for achieving the purposes of the grant.

• Conferences: Proposals for conferences should be assessed according to their relative contribution to the advancement of knowledge and to the professional development of cadres in the fields. Therefore, requests for conference funding should be directed to one or more of the organizations that may receive program funds for such purposes. Proposed conferences would be competed nationally and evaluated against research, fellowship or other proposals for achieving the purposes of the grant.

• Library Activities: Funds may be used for certain library activities that clearly strengthen research and training on the countries of Southeast Europe and Eurasia and benefit the fields as a whole. Such programs must make awards based upon open, national competition, incorporating peer group review mechanisms. Funds may not be used for activities such as modernization, acquisition, or preservation. Modest, cost-effective proposals to facilitate research, by eliminating serious cataloging backlogs or otherwise improving access to research materials, will be considered.

• Language Support: The Advisory Committee encourages a focus on the non-Russian languages of Eurasia and the less-commonly-taught languages of Southeast Europe. For Russian-language instruction/study, support may be provided only at the advanced level. Institutions seeking funding in order to offer language instruction are encouraged to apply to one or more of the national programs with appropriate peer review and selection mechanisms.

• Support for Non-Americans: The purpose of the program is to build and sustain U.S. expertise on the countries of Southeast Europe and Eurasia. Therefore, the Advisory Committee has determined that highest priority for support always should go to American specialists (i.e., U.S. citizens or permanent residents). Support for such activities as long-term research fellowships (i.e., nine months or longer), should be restricted solely to American scholars. Support for short-term activities also should be restricted to Americans, except in special instances where the participation of a non-American scholar has clear and demonstrable benefits to the U.S. scholarly community and/or the U.S. Government. In such special instances, the applicant will be required to justify the expenditure. Despite this restriction on support for non-Americans, collaborative projects are encouraged—where the non-American component is funded from other sources—and priority is given to institutions whose programs contain such an international component.

• Cost-sharing: Legislation requires that in certain cases grantee organizations must include cost-sharing provisions in their arrangements with individual and institutional recipients. Cost sharing is strongly encouraged in all programs. Cost-sharing is particularly encouraged for grants to American institutions of higher education and not-for-profit corporations in support of: (1) Post-doctoral or equivalent-level research projects; and (2) graduate, post-doctoral and teaching fellowships for advanced training or language studies. Research solely on, and/or travel to, the countries of “greater Central Asia” or Central and East Europe outside of Southeast Europe as outlined in this request for proposals, is not eligible for FSA or SEED funding. Proposals may include a plan to support research projects on, and travel to, countries eligible and ineligible for FSA or SEED funding, to address cross-border issues, regional or comparative studies, etc., in which case travel to ineligible countries would be cost-shared with funding from other sources. Travel to certain countries may be subject to restrictions due to unforeseeable world events, a requirement for U.S. embassy approval or general security concerns. All proposed cost-sharing should be included in the budget request in a separate column, and explained in the budget notes.

• Program Data Requirements: Organizations awarded grants will be required to provide data on program participants and activities in an electronically accessible format for the Title VIII Alumni Database. Requested information would include the following: Name; Institution; Address; Contact Information; Field(s) of Expertise; Location of Research, Fellowship, or other Activity; Research Products/Titles; Service to the U.S. Government (if applicable); Contribution to U.S. Assistance Goals (if applicable); etc.

Applications

New OMB Requirement: An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at: http://www.whitehouse.gov/omb/fedreg/062703_grant_identifier.pdf.

Organizations can receive a DUNS number at no cost by calling the toll-free DUNS Number request line at (866) 705-5711 or by applying online at http://www.dnb.com/us/duns_update/.

To comply with this directive, please include your organization's DUNS number in the proposal's “Executive Summary.”

Application Format: Applicants must submit 20 copies of the proposal (a clearly marked original and 19 copies) in Times New Roman, 12 point font in the following format: (1) Cover Letter with signature, name and title of authorized representative and primary point of contact for questions (if different); (2) Executive Summary (one-page, single-spaced, with DUNS number); (3) Narrative (not to exceed 20 double-spaced pages); (4) Budget Presentation with Budget Notes explaining each line item; (5) Resumes (one-page, for key professional staff); (6) Letters of Support and/or Partnership; and (7) Required Certifications. NB: Applicants also should submit the “Executive Summary,” “Proposal Narrative” and “Budget with Budget Notes” on a PC-formatted disk. Applicants may append other information they consider essential, although bulky submissions are discouraged and run the risk of not being reviewed fully.

Budget: Because funds will be appropriated separately for Southeast Europe and Eurasia programs, proposals and budgets must indicate how the requested funds will be distributed by region, country (to the extent possible) and activity. Successful grant recipients will be required to report expenditures by region, country and activity.

Applicants should familiarize themselves with Department of State grant regulations contained in 22 CFR 145, “Grants and Cooperative Agreements with Institutions of Higher Education, Hospitals, and Other Non-Profit Organizations”; 22 CFR 137, “Department of State Government-wide Debarment and Suspension (Non-Procurement) and Government-wide Requirements for Drug-Free Workplace (Grants)”; OMB Circular A-110, “Uniform Administrative Requirements for Grants and Agreements with Institutions of Higher Education, Hospitals, and Other Non-Profit Organizations”; and OMB Circular A-133, “Audits of Institutions of Higher Learning and Other Non-Profit Institutions.” Applicants must provide the following information:

(1) Indicate whether the organization falls under OMB Circular No. A-21, “Cost Principles for Educational Institutions,” or OMB Circular No. A-122, “Cost Principles for Nonprofit Organizations”;

(2) Submit a detailed, three-column budget, with one column each for applicant costs, cost-sharing and total costs. The budget must include direct program costs, administrative and indirect costs, and total amount requested, clearly identified by program element and by region (Eurasia or Southeast Europe). Indirect costs must be listed separately for Eurasia and Southeast Europe. The “Total Amount Requested” should be the sum of the amount requested for Eurasia activities plus the amount requested for Southeast Europe activities. “Administrative Costs” should be reflected also as a percentage of the total requested funding. NB: Indirect costs are limited to 10 percent of total direct program costs.

(3) For applicants requesting funds to supplement a program having other sources of funding, submit a current budget for the total program and an estimated future budget for it, showing how specific lines in the budget would be affected by the allocation of requested grant funds. Other funding sources and amounts should be identified.

(4) Explain the cost-sharing plan in the proposal's budget notes, with appropriate details and cross-references to the requested budget.

(5) Append the most recent audit report (the most recent U.S. Government audit report, if available) and the name, address, and point of contact of the audit agency.

(6) Include a prioritized list of proposed programs if funding is being requested for more than one program or activity.

All payments will be made to grant recipients through the U.S. Government's Payment Management System (PMS).

Proposal Narrative: The Applicant must describe fully the proposed programs, in no more than 20 double-spaced pages, including the benefits of these programs for the Southeast European and Eurasian fields, estimates of the types and amounts of anticipated awards, peer review and selection procedures and anticipated selection committee participants, and detailed information about recruitment plans and advertising of program opportunities to eligible individuals and/or institutions. The narrative also should address the applicant's plan to encourage policy relevant research, methods for dissemination of research products, and plans for bringing Title VIII to the service of the U.S. Government, where applicable.

Applicants who have received previous grants from the Title VIII Program should provide detailed information on the individual and institutional awards made, including, where applicable, names/affiliations of recipients, and amounts and types of awards. Applicants should specify both past and anticipated applicant to award ratios. A summary of the applicant's past grants under the Title VIII Program also should be included.

Proposals from national organizations involving language instruction programs should provide, for those programs supported in the past year, indications of progress achieved by Title VIII-funded students, information on the criteria for evaluation, including levels of instruction, degrees of intensiveness, facilities, methods for measuring language proficiency (including pre- and post-testing), instructors' qualifications, and budget information showing estimated costs per student.

Certifications: Applicants must include (1) a description of affirmative action policies and practices and (2) certifications of compliance with the provisions of: (a) the Drug-Free Workplace Act (Pub. L. 100-690), in accordance with Appendix C of 22 CFR 137, Subpart F; and (b) Section 319 of the Department of the Interior and Related Agencies Appropriations Act (Pub. L. 101-121), in accordance with Appendix A of 22 CFR 138, New Restrictions on Lobbying Activities.

Review Process: All eligible proposals will be reviewed by the program office, a grant review panel and the Advisory Committee for Studies of Eastern Europe and the Independent States of the Former Soviet Union. Proposals also may be reviewed by the Office of the Legal Advisor or by other Department elements. Final funding decisions are at the discretion of the Department of State's Deputy Secretary. Final technical authority for grants resides with the Department of State's Grants Officers.

Review Criteria: Technically eligible proposals will be competitively reviewed according to the following criteria:

(1) Quality of the Program Idea: Proposals should be responsive to the guidelines provided in this request for proposals, and should exhibit originality, substance, precision, and relevance to the State Department's mission, the legislation supporting the Title VIII Program, and the FREEDOM Support and SEED Acts.

(2) Program Planning: Program objectives should be stated clearly. Objectives should respond to priorities and address gaps in knowledge for particular fields and/or regions. A timeline outlining expected achievement of milestones should be included. Responsibilities of partner organizations, if any, should be described clearly.

(3) Institutional Capacity: Proposed personnel and selection committees should be adequate and appropriate to achieve the program's goals. The proposal should reflect the applicant's expertise and knowledge in conducting national competitive award programs of the type the applicant proposes on the countries of Southeast Europe and/or Eurasia. Past performance of prior recipients and the demonstrated potential of new applicants will be considered.

(4) Cost-Effectiveness and Cost-Sharing: Overhead and administrative costs in the proposal budget should be kept to a minimum. All other items should be necessary and appropriate. Proposals should maximize cost-sharing, including in-kind assistance, through contributions from the applicant, partner organizations, as well as other private sector support. Cost-sharing should be included as a separate column in the budget request. Proposal budgets that do not provide cost-sharing will be deemed less competitive in this category.

(5) Evaluation, Monitoring, Database, Reporting: Proposals should include a plan to evaluate and monitor program successes and challenges. Methods for linking outcomes to program objectives are recommended. The proposal should address the applicant's willingness and ability to contribute to the alumni database. Successful applicants will be required to submit quarterly financial and program reports.

Part III

Available Funds: Funding for this program is subject to final Congressional action and the appropriation of FY 2004 funds. Funding may be available at a level of approximately $5.0 million. In Fiscal Year 2003, the program was funded at $5.0 million from the FREEDOM Support and SEED Acts, which funded grants to eight national organizations. The number of awards may vary each year, depending on the level of funding and the quality of the applications submitted.

The Department legally cannot commit funds that may be appropriated in subsequent fiscal years. Thus multi-year projects cannot receive assured funding unless such funding is supplied out of a single year's appropriation. Grant agreements may permit the expenditure from a particular year's grant to be made up to three years after the grant's effective date.

The terms and conditions published in this Request for Proposals are binding and may not be modified by any Department representative. Issuance of the Request for Proposals does not constitute an award commitment on the part of the U.S. Government. The Department reserves the right to reduce, revise, or increase proposal budgets in accordance with the needs of the program and the availability of funds.

FOR FURTHER INFORMATION CONTACT: For further information or to arrange a consultation, contact Susie Baker, Title VIII Program Officer, E-mail: ACsbaker@us-state.osis.gov; Tel: (202) 647-0243, Fax: (202) 736-4851.

Dated: January 26, 2004.
Kenneth E. Roberts,
Executive Director, Advisory Committee for Studies of Eastern Europe and the Independent States of the Former Soviet Union, Department of State.

[FR Doc. 04-2153 Filed 2-2-04; 8:45 am]

BILLING CODE 4710-32-P